DEPARTMENT OF ENERGY

Federal Energy Regulatory Commission

[Docket No. AD06-6-000; Docket No. RM01-10-005; Docket No. RM05-30-000 ¹]

Joint Meeting of the Nuclear Regulatory Commission and the Federal Energy Regulatory Commission; Interpretative Order Relating to the Standards of Conduct; Rules Concerning Certification of the Electric Reliability Organization; Notice of Joint Meeting of the Nuclear Regulatory Commission and the Federal Energy Regulatory Commission

April 3, 2006.

The Federal Energy Regulatory Commission (FERC) and the Nuclear Regulatory Commission (NRC) will hold a joint meeting on April 24, 2006, in Room 2C, 888 First Street, NE., Washington, DC 20426. The meeting is expected to begin at 2 p.m. (EDT) and conclude at 4 p.m. All interested persons are invited to attend.

¹ The Commission does not anticipate any decisions being made in either of these rulemaking dockets at this meeting; however, as both rulemakings may be discussed, the Commission is noticing both dockets to ensure no violation of the Government in the Sunshine Act requirements occurs.

Purpose of Joint Meeting

The NRC and FERC signed a Memorandum of Agreement on September 1, 2004, to facilitate interactions between the two agencies on matters of mutual interest pertaining to the nation's electric power grid reliability and related implementation activities based on the August 14, 2003, outage recommendations by the U.S.-Canada Power System Task Force. Both agencies have ongoing matters that are relevant to the April 24 joint meeting. The purpose of the joint meeting is to continue the dialog between the two agencies in furtherance of the goals set forth in the Memorandum of Agreement, especially in light of the concurrent matters involving offsite power,² and to explore the most effective role of each agency in addressing grid reliability issues and, thereby, to ensure an integrated approach in accomplishing their respective missions.

² On February 1, 2006, the NRC issued Generic Letter 2006-002, Grid Reliability and the Impact on Plant Risk and the Operability of Offsite Power, OMB No. 3150-0011. On February 16, 2006, in Docket No. RM01-10-005, FERC issued Interpretive Order Relating to the Standards of Conduct for Transmission Providers, 114 FERC ¶ 61,155 (2006).

Format for Joint Meeting

The format for the joint meeting will be discussions between the two sets of commissioners following presentations by their respective staffs, as set forth in the agenda below. There will not be industry presentations.

Agenda

Opening Remarks by FERC Chairman Kelliher, NRC Chairman Diaz and Commissioners

Brief presentations by NRC Staff on effects of grid reliability on nuclear power plants and projected additions of new nuclear reactors to the grid and by FERC Staff on grid reliability and the Electric Reliability Organization proceeding.

Discussion

Brief presentations by NRC Staff on reactor regulation and oversight including adopting and revising standards and by FERC Staff on new responsibilities under the Energy Policy Act of 2005.

Discussion

Brief presentations/updates by NRC Staff on Generic Letter and by FERC Staff on Interpretive Order Proceeding.

Discussion

Closing Remarks by NRC Chairman Diaz, FERC Chairman Kelliher and Commissioners

* * * * *

A free webcast of this event is available through http://www.ferc.gov. Anyone with Internet access who desires to view this event can do so by navigating to http://www.ferc.gov's Calendar of Events and locating this event in the Calendar. The event will contain a link to its webcast. The Capitol Connection provides technical support for the webcasts and offers access to the meeting via phone bridge for a fee. If you have any questions, visit http://www.CapitolConnection.org or contact Danelle Perkowski or David Reininger at 703-993-3100.

Transcripts of the meeting will be available immediately for a fee from Ace Reporting Company (202-347-3700 or 1-800-336-6646). They will be available for free on the Commission's eLibrary system and on the events calendar approximately one week after the meeting.

FERC conferences and meetings are accessible under section 508 of the Rehabilitation Act of 1973. For accessibility accommodations please send an e-mail to accessibility@ferc.gov or call toll free (866) 208-3372 (voice) or 202-502-8659 (TTY), or send a fax to 202-208-2106 with the required accommodations.

All interested persons are invited. Pre-registration is not required and there is no fee to attend this joint meeting. Questions about the meeting should be directed to Mary Kipp at Mary.Kipp@ferc.gov or by phone at 202-502-8228.

Magalie R. Salas,
Secretary.

[FR Doc. E6-5291 Filed 4-10-06; 8:45 am]

BILLING CODE 6717-01-P